DEPARTMENT OF COMMERCE

National Oceanic and Atmospheric Administration

RIN 0648-XB080

Endangered and Threatened Species; Take of Anadromous Fish

AGENCY: National Marine Fisheries Service (NMFS), National Oceanic and Atmospheric Administration (NOAA), Commerce.

ACTION: Notice of issuance of permits.

SUMMARY: NMFS has issued permit 15542 to Normandeau Associates, Incorporated [Responsible Party: Tim Salamunovich], 890 L Street, Arcata, CA 95521; permit 16608 to the U.S. Bureau of Reclamation (USBR) [Responsible Party: Michelle Banonis], 2800 Cottage Way, Room W-1727 Sacramento, CA 95825; and permit 16531 to FISHBIO Environmental, LLC [Responsible Party: Andrea Fuller], 599 Hi-Tech Pkwy, Oakdale, CA 95361; for purposes of scientific research.

ADDRESSES: Permits and related documents are available for review, upon written request or appointment in the following office(s): Permits, Conservation and Education Division, Office of Protected Resources, NMFS, 1315 East-West Highway, Room 13705, Silver Spring, MD 20910-3226; Phone (301) 713-2289; Fax (301) 427-2521; and Protected Resources Division, NMFS, 650 Capitol Mall, Suite 5-100, Sacramento, CA 95814; Phone (916) 930-3600; Fax (916) 930-3629.

FOR FURTHER INFORMATION CONTACT: Shirley Witalis at phone number (916) 930-3606, or email: shirley.witalis@noaa.gov.

SUPPLEMENTARY INFORMATION: This notice is relevant to Federally-listed threatened California Central Valley (CCV) steelhead (Oncorhynchus mykiss). Permits 15542, 16608 and 16531 have been issued under the authority of the Endangered Species Act of 1973, as amended (ESA; 16 U.S.C. 1531 et. seq.) and the regulations governing the taking, importing and exporting of endangered and threatened species (50 CFR parts 222-226).

Permits

Permit 15542 was issued to Normandeau Associates, Incorporated (NAI) on October 24, 2011, authorizing the take of ESA-listed juvenile and adult CCV steelhead during fish monitoring surveys in lower Putah Creek, a tributary to the Sacramento River, Central Valley, California. The surveys are conducted under the auspices of the Lower Putah Creek Coordinating Committee (LPCCC) to evaluate LPCCC flow management actions on the abundance, distribution, condition, and health of fishes in lower Putah Creek. Sample fish will be captured by boat and raft-mounted electrofisher, anesthetized, identified to species, examined for marks and tags, measured and weighed, and released back into lower Putah Creek. Permit 15542 will expire on November 1, 2016.

Permit 16608 was issued to the U.S. Bureau of Reclamation (USBR) on January 26, 2012, authorizing the take of ESA-listed juvenile and adult CCV steelhead during implementation of the San Joaquin River Restoration Program Steelhead Monitoring Plan (SJRRP SMP). USBR, in affiliation with the SJRRP, will monitor for the presence of steelhead within the SJRRP action area, defined as the mainstem San Joaquin River, from Friant Dam to the confluence of the Merced River, in Central Valley, California. CCV steelhead will be captured prior to entering non-restored habitat, by raft-mounted electrofisher, fyke nets and trammel nets; identified to gender; sampled for tissues and scales; assessed for condition and the presence of marks and tags; and receive a coded floy tag. Captured CCV steelhead will then be transported by truck and released into suitable habitat in the San Joaquin River downstream of the confluence of the Merced River. Permit 16608 will expire on March 31, 2014.

Permit 16531 was issued to FISHBIO Environmental, LLC (FISHBIO) on February 24, 2012, authorizing the take of ESA-listed CCV steelhead in scientific research studies linking salmonid habitat and spatial variability in the Merced River, a tributary to the San Joaquin River, in the Central Valley, California. Research investigations will evaluate: (1) The effects of attraction flow augmentation on adult salmonid migration timing and on salmonid spawning and rearing habitats; and (2) the effects of current flow management on salmonid fry and juvenile abundance, outmigration, and survival in the lower Merced River. Authorized activities include: (1) Passive monitoring (observations and enumeration at a fish counting weir; snorkel surveys; and underwater DIDSON sonar camera monitoring), and (2) active monitoring (capture of CCV steelhead by rotary screw trap, the application of anesthesia, species identification, the taking of length measurements and weights, and release of sampled juvenile and adult steelhead back into the Merced River). Permit 16531 will expire on December 31, 2016.

Dated: March 13, 2012.
Angela Somma,
Chief, Endangered Species Division, Office of Protected Resources, National Marine Fisheries Service.

[FR Doc. 2012-6451 Filed 3-15-12; 8:45 am]

BILLING CODE 3510-22-P